DEPARTMENT OF TRANSPORTATION

Research and Special Programs Administration

49 CFR Part 192

[Docket No. RSPA-02-13208]

RIN 2137-AD01

Pipeline Safety: Pressure Limiting and Regulating Stations

AGENCY: Research and Special Programs Administration (RSPA), DOT.

ACTION: Confirmation of effective date of direct final rule.

SUMMARY: In the May 17, 2004, issue of the Federal Register, the Research and Special Programs Administration's Office of Pipeline Safety (RSPA/OPS) published a direct final rule that removed an unintended impact of regulations on pressure limiting and regulating stations. The direct final rule modified pressure limits that could have required a reduction in the operating pressure of certain pipelines and been impracticable for other pipelines to meet. The present document confirms the effective date of that direct final rule.

EFFECTIVE DATES: The direct final rule published May 17, 2004 (69 FR 27861), goes into effect October 8, 2004.

FOR FURTHER INFORMATION CONTACT: L.M. Furrow by phone at 202-366-4559, by fax at 202-366-4566, by mail at U.S. Department of Transportation, 400 Seventh Street, SW., Washington, DC 20590, or by e-mail at buck.furrow@rspa.dot.gov.

SUPPLEMENTARY INFORMATION: On May 17, 2004, RSPA/OPS published a direct final rule titled “Pipeline Safety: Pressure Limiting and Regulating Stations” (69 FR 27861). In the direct final rule, RSPA/OPS stated that if it did not receive an adverse comment, as defined in 49 CFR 190.339(c),¹ or notice of intent to file an adverse comment by July 16, 2004, it would publish a confirmation document to announce that the direct final rule would go into effect on September 14, 2004, or at least 30 days after the confirmation document is published, whichever is later.

¹ An adverse comment is one which explains why the rule would be inappropriate, including a challenge to the rule's underlying premise or approach, or would be ineffective or unacceptable without a change. Comments that are frivolous or insubstantial will not be considered adverse under this procedure. A comment recommending a rule change in addition to the rule will not be considered an adverse comment, unless the commenter states why the rule would be ineffective without the additional change.

As of July 16, 2004, only one person, Barb Sachau, submitted a comment on the direct final rule. Ms. Sachau exhorted RSPA/OPS to ensure pipelines are truly safe by adopting additional standards and hiring experts. Because Ms. Sachau addressed pipeline safety in general and did not speak specifically about the direct final rule, we do not consider her comment to be an adverse comment under 49 CFR 190.339(c). Therefore, by this document, we are confirming that the direct final rule will go into effect on October 8, 2004.

Issued in Washington, DC, on August 30, 2004.
Stacey L. Gerard,
Associate Administrator for Pipeline Safety.

[FR Doc. 04-20262 Filed 9-7-04; 8:45 am]

BILLING CODE 4910-60-P